FEDERAL COMMUNICATIONS COMMISSION

47 CFR Part 73

[DA 04-374, MB Docket No. 03-234, RM-10699]

Digital Television Broadcast Service; Fargo, ND.

AGENCY: Federal Communications Commission.

ACTION: Final rule.

SUMMARY: The Commission, at the request of North Dakota Television License, Sub., substitutes DTV channel 44 for DTV channel 58 at Fargo, North Dakota. See 68 FR 66394, November 26, 2003. DTV channel 44 can be allotted to Fargo, North Dakota, in compliance with the principle community coverage requirements of Section 73.625(a) at reference coordinates 47-20-32 N. and 97-17-20 W., with a power of 414, HAAT of 543 meters and with a DTV service population of 313,000. Since the community of Fargo is located within 400 kilometers of the U.S.-Canadian border, concurrence from the Canadian government was obtained for this allotment. With this action, this proceeding is terminated.

DATES: Effective April 5, 2004.

FOR FURTHER INFORMATION CONTACT: Pam Blumenthal, Media Bureau, (202) 418-1600.

SUPPLEMENTARY INFORMATION: This is a synopsis of the Commission's Report and Order, MB Docket No. 03-234, adopted February 12, 2004, and released February 19, 2004. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under North Dakota, is amended by removing DTV channel 58 and adding DTV channel 44 at Fargo.

Federal Communications Commission.
Barbara A. Kreisman,
Chief, Video Division, Media Bureau.

[FR Doc. 04-4262 Filed 2-25-04; 8:45 am]

BILLING CODE 6712-01-P